DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than March 30, 2009.

Interested persons are invited to submit written comments regarding the subject matter of the investigations to the Director, Division of Trade Adjustment Assistance, at the address shown below, not later than March 30, 2009.

The petitions filed in this case are available for inspection at the Office of the Director, Division of Trade Adjustment Assistance, Employment and Training Administration, U.S. Department of Labor, Room N-5428, 200 Constitution Avenue, NW., Washington, DC 20210.

Signed at Washington, DC, this 6th day of March 2009.
Linda G. Poole,
Certifying Officer, Division of Trade Adjustment Assistance.

Appendix
[TAA petitions instituted between 2/9/09 and 2/13/09]
TA-W | Subject firm (petitioners) | Location | Date of institution | Date of petition
65163 | International Textile Group (Comp) | Cordova, NC | 02/09/09 | 02/06/09
65164 | Bradington-Young, LLC (Comp) | Cherryville, NC | 02/09/09 | 02/06/09
65165 | Chrysler National Customer Service (UAW) | Rochester Hills, MI | 02/09/09 | 02/04/09
65166 | Bradington-Young of Hickory (Wkrs) | Hickory, NC | 02/09/09 | 02/05/09
65167 | Anderson Global (Union) | Muskegon Heights, MI | 02/09/09 | 02/06/09
65168 | Hewlett Pachard—BCS Fremont Supply Chain Operations (Wkrs) | Fremont, CA | 02/09/09 | 02/05/09
65169 | Lyon Workerspace Products, LLC (State) | Montgomery, IL | 02/09/09 | 02/05/09
65170 | Johnstown Specialty Casting, Inc. (USW) | Johnstown, PA | 02/09/09 | 01/29/09
65171 | Frontier Spinning Mills #6 (Comp) | Cheraw, SC | 02/09/09 | 02/06/09
65172 | Summit Polymers, Inc. (Comp) | Portage, MI | 02/09/09 | 01/23/09
65173 | Superior Fabrication Company, LLC (Comp) | Kincheloe, MI | 02/09/09 | 02/05/09
65174 | Berry Floor, USA (Comp) | Racine, WI | 02/09/09 | 02/06/09
65175 | Molded Dimensions, Inc. (State) | Port Washington, WI | 02/09/09 | 02/06/09
65176 | HP—Hewlett Pickard (Wkrs) | Boise, ID | 02/09/09 | 01/21/09
65177 | Data 2 Logistics, LLC (Wkrs) | Grand Blanc, MI | 02/09/09 | 01/06/09
65178 | Louis Lavitt Company, Inc. (Comp) | Hickory, NC | 02/09/09 | 02/06/09
65179 | Wellington-Almont, LLC (Comp) | Almont, MI | 02/09/09 | 02/06/09
65180 | Moduslink (Comp) | Morrisville, NC | 02/09/09 | 01/30/09
65181 | Stanley Access Technologies (State) | Farmington, CT | 02/09/09 | 02/03/09
65182 | General Motors Fabricating Division (UAW) | Grand Rapids, MI | 02/09/09 | 01/28/09
65183 | National Bearings Company (Comp) | Lancaster, PA | 02/09/09 | 02/06/09
65184 | Eaton Corporation, LLC (Wkrs) | Forest City, NC | 02/09/09 | 02/04/09
65185 | Victor Insulators (Comp) | Victor, NY | 02/10/09 | 02/09/09
65186 | Elkay Manufacturing Company (Comp) | Bolingbrook, IL | 02/10/09 | 02/06/09
65187 | Hallmark Cards, Inc. (Wkrs) | Kansas City, MO | 02/10/09 | 02/09/09
65188 | Capital Mercury Apparel (State) | Yellville, AR | 02/10/09 | 02/06/09
65189 | Fairfield Chair Plant 2 (Wkrs) | Lenoir, NC | 02/10/09 | 02/09/09
65190 | Hill Corporation (State) | Anaheim, CA | 02/10/09 | 02/09/09
65191 | Rockwell Automation (State) | Ladysmith, WI | 02/10/09 | 02/06/09
65192 | Emerson Network Power—Embedded Computing (Comp) | Tempe, AZ | 02/10/09 | 02/09/09
65193 | Prime Tanning (Comp) | Hartland, ME | 02/10/09 | 02/09/09
65194 | R & R Donnelley/Banta, Inc. (State) | Long Praire, MN | 02/10/09 | 02/09/09
65195 | Cryovac, Inc. (Sealed Airp Corp) (Comp) | Cedar Rapids, IA | 02/10/09 | 02/09/09
65196 | Power Packer Automotive, an Actuant Company (Comp) | Milwaukee, WI | 02/10/09 | 02/06/09
65197 | Republic Door (AFLCIO) | McKenzie, TN | 02/10/09 | 02/06/09
65198 | Touch Sensor Technologies, LLC (Wkrs) | Wheaton, IL | 02/10/09 | 02/06/09
65199 | ASCO, Inc. (Comp) | Florham Park, NJ | 02/10/09 | 02/09/09
65200 | DimcoGray Corporation (Comp) | Centerville, OH | 02/10/09 | 02/06/09
65201 | Toho Tenax America, Inc. (Comp) | Rockwood, TN | 02/10/09 | 02/09/09
65202 | Bright Wood Corporation (Comp) | Madras, OR | 02/10/09 | 02/05/09
65203 | Qimonda 300 mm Facility (Wkrs) | Sandston, VA | 02/10/09 | 02/08/09
65204 | Daimler Trucks NA LLC/Gostonia Components and Logistics (Wkrs) | Gastonia, NC | 02/10/09 | 02/03/09
65205 | U.S. Flock Company, LLC (Wkrs) | Easton, PA | 02/10/09 | 02/09/09
65206 | Millinocket Fabrication and Machine, Inc. (Comp) | Millinocket, ME | 02/10/09 | 02/05/09
65207 | International Paper (Comp) | Howell, MI | 02/10/09 | 02/06/09
65208 | Citibank/Citigroup (21742) | Hagerstown, MD | 02/10/09 | 02/10/09
65209 | Spartan Light Metal Products (State) | Sparta, IL | 02/10/09 | 02/09/09
65210 | Syracuse China (Comp) | Syracuse, NY | 02/10/09 | 02/09/09
65211 | Cabot Supermetals (Union) | Gilbertsville, PA | 02/10/09 | 02/06/09
65212 | Ryder Integrated Logistics (State) | Ledgewood, NJ | 02/11/09 | 02/10/09
65213 | Texon USA, Inc. (Wkrs) | Russell, MA | 02/11/09 | 02/10/09
65214 | Everett Charles Technologies, Inc. (Comp) | Longmont, CO | 02/11/09 | 02/10/09
65215 | Bennett Lumber Products, Inc. (Comp) | Princeton, ID | 02/11/09 | 02/01/09
65216 | H&H Trailer Company (Wkrs) | Clarinda, IA | 02/11/09 | 02/10/09
65217 | New A.C., Inc. (State) | Richmond, CA | 02/11/09 | 02/10/09
65218 | D/E Associates, Inc. (Comp) | Shamokin, PA | 02/11/09 | 02/10/09
65219 | Thomasville Furniture Outlet Store (Comp) | Hudson, NC | 02/11/09 | 02/10/09
65220 | Allied Motion Motor Equipment (Wkrs) | Owosso, MI | 02/11/09 | 02/09/09
65221 | A1 Polishing and Finishing, Inc. (Comp) | New Holstein, WI | 02/11/09 | 02/10/09
65222 | Friction Products Company (Comp) | Crawfordsville, IN | 02/11/09 | 02/06/09
65223 | ATI Allegheny Ludlum (USW) | Brackenridge, PA | 02/11/09 | 01/26/09
65224 | Panel Products (97537) | Rogue River, OR | 02/11/09 | 02/05/09
65225 | Reading Truck Body, LLC (Wkrs) | Reading, PA | 02/11/09 | 02/05/09
65226 | Formtek (Wkrs) | Clinton, ME | 02/11/09 | 02/09/09
65227 | Tama Manufacturing (UNITE) | Allentown, PA | 02/11/09 | 02/10/09
65228 | Carthoplas, Inc. (Wkrs) | Gaffney, SC | 02/11/09 | 01/07/09
65229 | Royall Company, Inc. (Wkrs) | Conover, NC | 02/12/09 | 02/10/09
65230 | Vishay Vitramon, Inc. (Comp) | Monroe, CT | 02/12/09 | 02/10/09
65231 | Rawlings Sporting Goods (Comp) | Washington, MO | 02/12/09 | 02/09/09
65232 | Mohican Mills, Inc. (Comp) | Lincolnton, NC | 02/12/09 | 02/11/09
65233 | KJP Telecommunications (State) | Fairbault, MN | 02/12/09 | 02/11/09
65234 | Kaz, Inc. (Comp) | Memphis, TN | 02/12/09 | 02/11/09
65235 | Troxel Manufacturing (Wkrs) | Tyler, TX | 02/12/09 | 02/09/09
65236 | Hanesbrands, Inc. (Comp) | Barnwell, SC | 02/12/09 | 02/09/09
65237 | CMH Manufacturing, Inc. (Comp) | Ardmore, TN | 02/12/09 | 02/11/09
65238 | Allied Air Enterprises, Inc. (Comp) | Blackville, SC | 02/12/09 | 02/12/09
65239 | Three Rivers Timber, Inc. (Comp) | Kamlah, ID | 02/12/09 | 02/10/09
65240 | St. Marys Carbon Company (IUECWA) | St. Marys, PA | 02/12/09 | 02/11/09
65241 | JP Morgan Chase Bank, NA (Wkrs) | Lexington, KY | 02/12/09 | 01/29/09
65242 | Sierra Pacific Industries (CICUBC) | Aberdeen, WA | 02/13/09 | 02/02/09
65243 | TMD Friction, Inc. (Rep) | Dublin, VA | 02/13/09 | 02/12/09
65244 | Muscle Shoals Rubber Company (Comp) | Batesville, MS | 02/13/09 | 02/12/09
65245 | Pacific Veneer (Comp) | Aberdeen, WA | 02/13/09 | 02/09/09
65246 | I-Level Aberdeen Sawmill (Weyerhaeuser) (CICUBC) | Aberdeen, WA | 02/13/09 | 02/02/09
65247 | Indalex Inc. and Indalex Ltd. (Comp) | Lincolnshire, IL | 02/13/09 | 02/09/09
65248 | Kellwood Company Distribution Services (Rep) | Trenton, TN | 02/13/09 | 02/11/09
65249 | Disston Company (State) | South Deerfield, MA | 02/13/09 | 02/09/09
65250 | Eagle Ottawa, LLC (Comp) | Auburn Hills, MI | 02/13/09 | 02/12/09
65251 | The H. B. Smith Company, Inc. (Comp) | Westfield, MA | 02/13/09 | 02/12/09
65252 | Hutchinson Technology, Inc. (State) | Plymouth, MN | 02/13/09 | 02/09/09
65253 | CB and I Constructors, Inc. (IBB) | Warren, PA | 02/13/09 | 02/12/09
65254 | North Bergen, Piece Dye (UNITE) | North Bergen, NJ | 02/13/09 | 02/12/09
65255 | April Steel Processing (Comp) | Dearborn, MI | 02/13/09 | 02/12/09

[FR Doc. E9-5898 Filed 3-18-09; 8:45 am]

BILLING CODE 4510-FN-P